DEPARTMENT OF TRANSPORTATION

Federal Railroad Administration

[Docket Number FRA-2012-0097]

Petition for Waiver of Compliance

In accordance with Part 211 of Title 49 Code of Federal Regulations (CFR), this document provides the public notice that R. J. Corman Railroad Company (RJCC) has petitioned the Federal Railroad Administration (FRA) for a waiver of compliance from certain provisions of the Federal railroad safety regulations contained at 49 CFR part 230, Steam Locomotive Inspection and Maintenance Standards. FRA assigned the petition Docket Number FRA-2012-0097.

RJCC is a railroad company based in Nicholasville, KY, that primarily operates freight railroads in five states. RJCC operates one steam locomotive, RJCC 2008, several times a year in the spring and fall on its Central Kentucky Line. RJCC 2008 is a 2-10-2 steam locomotive that was built in China in 1986. The boiler and the running gear were rebuilt in China and received a 1472 service-day inspection, pursuant to 49 CFR 230.17, prior to entering service in the United States on March 14, 2008. Since then, RJCC 2008 has operated 37 days in service and has undergone four annual inspections. RJCC plans to operate RJCC-2008 for 4 or 5 service days in 2013.

RJCC requests relief from 49 CFR 230.16(a)(2) with respect to flexible staybolt and cap inspection and 49 CFR 230.41, Flexible staybolts with caps. RJCC requests that 2.5 years be added to the prescribed 5-year period to perform the flexible staybolt inspection, thereby allowing 2,760 calendar days from the date that RJCC put RJCC 2008 into service. The flexible staybolts were installed in the boiler with caps welded to the staybolt cups, which were also welded to the boiler. The inspection process would involve torching off each cap, causing possible damage to each cup, thereby requiring replacement. There are in excess of 1,200 flexible staybolts installed on the boiler of RJCC 2008. RJCC will perform the annual inspection pursuant to 49 CFR 230.16. Granting the waiver would allow RJCC 2008 to receive an annual inspection without the added burden of removing the locomotive cab, boiler jacketing, and attendant insulation, which is required for the flexible staybolt inspection.

A copy of the petition, as well as any written communications concerning the petition, is available for review online at www.regulations.gov and in person at the U.S. Department of Transportation's Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by May 28, 2013 will be considered by FRA before final action is taken. Comments received after that date will be considered as far as practicable.

Anyone is able to search the electronic form of any written communications and comments received into any of our dockets by the name of the individual submitting the comment (or signing the document, if submitted on behalf of an association, business, labor union, etc.). See http://www.regulations.gov/#!privacyNotice for the privacy notice of regulations.gov or interested parties may review DOT's complete Privacy Act Statement in the Federal Register published on April 11, 2000 (65 FR 19477).

Issued in Washington, DC, on April 8, 2013.
Robert C. Lauby,
Deputy Associate Administrator for Regulatory and Legislative Operations.

[FR Doc. 2013-08491 Filed 4-10-13; 8:45 am]

BILLING CODE 4910-06-P